DEPARTMENT OF ENERGY

Federal Energy Regulatory Commission

[Docket No. IC21-36-000]

Commission Information Collection Activities (FERC-725G1 and FERC-725G4); Consolidated Comment Request; Extension

AGENCY: Federal Energy Regulatory Commission, DOE.

ACTION: Notice of information collections and request for comments.

SUMMARY: In compliance with the requirements of the Paperwork Reduction Act of 1995, the Federal Energy Regulatory Commission (Commission or FERC) is soliciting public comment on the currently approved information collections, FERC-725G1 (Mandatory Reliability Standards for the Bulk-Power System: Reliability Standard PRC-004-6) and FERC-725G4 (Mandatory Reliability Standards: Reliability Standard PRC-010-2 (Undervoltage Load Shedding)).

DATES: Comments on the collections of information are due October 12, 2021.

ADDRESSES: You may submit your comments (identified by Docket No. IC21-36-000) on FERC-725G1 and/or FERC-725G4 by one of the following methods:

Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or by telephone at (202) 502-8663.

SUPPLEMENTARY INFORMATION:

FERC-725G1

Title: Mandatory Reliability Standards for the Bulk-Power System: Reliability Standard PRC-004-6.

OMB Control No.: 1902-0284.

Type of Request: Three-year extension of the FERC-725G1 information collection requirements.

Abstract: The Commission collects information under FERC-725G1 in accordance with section 215 of the Federal Power Act (FPA) ¹ and 18 CFR parts 39 and 40. Section 215 of the FPA gives the Commission and the North American Electric Reliability Corporation (as the Commission-approved Electric Reliability Organization) to establish and enforce reliability standards for all users, owners, and operators of the bulk-power system.² Once approved, the Reliability Standards may be enforced by the Electric Reliability Organization subject to Commission oversight, or by the Commission independently.³

¹ 16 U.S.C. 824o.

² As defined at 16 U.S.C. 824o(a)(1) and 18 CFR 39.1, the term “bulk-power system” means facilities and control systems necessary for operating an interconnected electric energy transmission network (or any portion thereof), and electric energy from generating facilities needed to maintain transmission system reliability. The term does not include facilities used in the local distribution of electric energy.

³ 16 U.S.C. 824o(e).

Reliability Standard PRC-004-6 requires transmission owners, generator owners, and distribution providers to identify and correct causes of misoperations of certain protection systems for bulk-power system elements. It also requires retention of evidence of misoperations for a minimum of 12 calendar months.

Types of Respondents: Transmission Owners, Generator Owners, and Distribution Providers for FERC-725G1. Transmission Owners and Distribution Providers for FERC-725G4.

Frequency of Response: On occasion.

Estimate of Annual Burden: The Commission estimates 703 responses annually, and per-response burdens of 16.5 hours and $1,435.50.⁴ The total estimated burdens per year are 703 responses, 11,599.5 hours, and $1,009,156.50. These burdens are itemized in the following table:

⁴ Using the May 14, 2021 NERC compliance registration information for entities that are Generator Owners, Transmission Owners, and Distribution Providers (in the U.S.), the number of potential respondents is 1,405, taking into account overlap between functions. However, not every entity will have a misoperation event during a year. Based on our previous experience with this information collection, we are estimating that approximately half of the 1,405 potential respondents annually will have a reportable misoperation, i.e., 703 responses per year for FERC-725G1.

FERC-725G1—Annual Estimates of Respondents' Burdens
Number of respondents | Annual number of responses per respondent | Total number of responses | Average burden and cost per response ⁵ | Total annual burden hours and total annual cost | Cost per respondent ($)
A. | B. | C. (column A × column B) | D. | E. (column C × column D) | F. (column E ÷ column A)
703 | 1 | 703 | 16.5 hrs.; $1,435.50 | 11,599.5 hrs.; $1,009,156.50 | $1,435.50

FERC-725G4

⁵ Commission staff estimates that the average industry hourly cost for this information collection is approximated by the current FERC 2021 average hourly costs for wages and benefits, i.e., $87.00/hour.

Title: Mandatory Reliability Standards: Reliability Standard PRC-010-2 (Undervoltage Load Shedding).

OMB Control No.: 1902-0282.

Type of Request: Three-year extension of the FERC-725G4 information collection requirements.⁶

⁶ If OMB renews FERC-725G4, the Commission subsequently may consider requesting that OMB combine that information collection activity with FERC-725G1. Such action would be administrative only and would not indicate the discontinuation of the information collection requirements in FERC-725G4.

Abstract: The Commission collects information under FERC-725G4 in accordance with section 215 of the FPA and 18 CFR parts 39 and 40. Reliability Standard PRC-010-2 requires respondents to submit date-stamped documentation of their compliance with the relevant UVLS Program.⁷

⁷ “Load shedding” means disconnecting consumers from the grid to prevent demand from exceeding supply, which can cause widespread grid collapse. A “UVLS Program” provides for automatic load shedding, utilizing voltage inputs, in specific circumstances and locations.

Types of Respondents: UVLS Entities.⁸

⁸ “UVLS Entities,” as defined at the NERC website at https://www.nerc.com/pa/Stand/Reliability%20Standards/PRC-010-2.pdf, are distribution providers and transmission owners responsible for the ownership, operation, or control of UVLS equipment, as required by a UVLS Program.

Frequency of Response: On occasion.

Estimate of Annual Burden: The Commission estimates 25 responses annually, and per-response burdens of 48 hours and $4,176.⁹ The total estimated burdens per year are 25 responses, 1,200 hours, and $104,400. These burdens are itemized in the following table:

⁹ Using the May 14, 2021 NERC compliance registration information for entities that are Transmission Owners and Distribution Providers (in the U.S.), the number of potential respondents is 494, taking into account overlap between functions. However, not every entity has an undervoltage load shedding program. Approximately five percent of the potential respondents have such a program. Therefore, we estimate 25 responses per year for FERC-725G4.

FERC-725G4—Annual Estimates of Respondents' Burdens
Number of respondents | Annual number of responses per respondent | Total number of responses (column A × column B) | Average burden and cost per response ¹⁰ | Total annual burden hours and total annual cost (column C × column D) | Cost per respondent ($) (column E ÷ column A)
A | B | C | D | E | F
25 | 1 | 25 | 48 hrs.; $4,176 | 1,200 hrs.; $104,400 | $4,176

Comments are invited on: (1) Whether the collection of information is necessary for the proper performance of the functions of the Commission, including whether the information will have practical utility; (2) the accuracy of the agency's estimate of the burden and cost of the collection of information, including the validity of the methodology and assumptions used; (3) ways to enhance the quality, utility, and clarity of the information collection; and (4) ways to minimize the burden of the collection of information on those who are to respond, including the use of automated collection techniques or other forms of information technology.

¹⁰ Commission staff estimates that the average industry hourly cost for this information collection is approximated by the current FERC 2021 average hourly costs for wages and benefits, i.e., $87.00/hour.

Dated: August 5, 2021.
Kimberly D. Bose,
Secretary.

[FR Doc. 2021-17135 Filed 8-10-21; 8:45 am]

BILLING CODE 6717-01-P